DEPARTMENT OF STATE

[Public Notice 3873]

Exchange Visitor Program Designation Staff, Bureau of Educational and Cultural Affairs; 30-Day Notice of Proposed Information Collection: Certificate of Eligibility for Exchange Visitor (J-1) Status; Control No. 1405-0119; Department of State Form DS-2019 and IAP-66P

ACTION: Notice.

SUMMARY: The Department of State has submitted the following information collection request to the Office of Management and Budget (OMB) for approval in accordance with the Paperwork Reduction Act of 1995. Submit comments to OMB within 30 days of the publication of this notice.

The following summarizes the information collection proposal submitted to OMB:

Type of Request: Extension of a currently approved collection.

Originating Office: Exchange Visitor Program Designation Staff, Bureau of Educational and Cultural Affairs (ECA/EC/ECD).

Title of Information Collection: Certificate of Eligibility for Exchange Visitor (J-1) Status.

Frequency: On occasion.

Form Numbers: DS-2019 and IAP-66P.

Respondents: U.S. Department of State designated Exchange Vistor Program sponsors and exchange visitors.

Estimated Number of Respondents: 300,000.

Average Hours Per Response: 45 minutes.

Total Estimated Burden: 1,350,000 hours.

Public comments are being solicited to permit the agency to:

• Evaluate whether the proposed collection of information is necessary for the proper performance of the functions of the agency, including whether the information will have practical utility.

• Evaluate the accuracy of the agency's estimate of the burden of the collection, including the validity of the methodology and assumptions used.

• Enhance the quality, utility, and clarity of the information to be collected.

• Minimize the reporting burden on those who are to respond, including through the use of automated collection techniques or other forms of technology.

FOR FURTHER INFORMATION CONTACT: Copies of the proposed information collection and supporting documents may be obtained from the Exchange Visitor Program Designation Staff (ECA/EC/PS), Office of Exchange Coordination and Designation, Bureau of Educational and Cultural Affairs, 301 Fourth Street, SW., Room 734, U.S. Department of State, Washington, DC 20520; telephone: 202-401-9810. Public comments and questions should be directed to the State Department Desk Officer, Office of Information and Regulatory Affairs, Office of Management and Budget (OMB), Washington, DC 20530, who may be reached on 202-395-3897.

Dated: December 6, 2001.
James D. Whitten,
Executive Director, Bureau of Educational and Cultural Affairs, Department of State.

[FR Doc. 02-237 Filed 1-3-02; 8:45 am]

BILLING CODE 4710-05-P